DEPARTMENT OF TRANSPORTATION

Federal Motor Carrier Safety Administration

49 CFR Parts 385, 390, and 395

[Docket No. FMCSA-2010-0167]

RIN 2126-AB20

Electronic On-Board Recorders and Hours of Service Supporting Documents

AGENCY: Federal Motor Carrier Safety Administration (FMCSA), DOT.

ACTION: Notice of proposed rulemaking (NPRM); extension of comment period.

SUMMARY: This notice extends the public comment period for the NPRM from April 4, 2011 to May 23, 2011.

DATES: Comments on the NPRM are due by May 23, 2011.

FOR FURTHER INFORMATION CONTACT: Ms. Deborah M. Freund, Vehicle and Roadside Operations Division, Office of Bus and Truck Standards and Operations, Federal Motor Carrier Safety Administration, 1200 New Jersey Avenue, SE., Washington, DC 20590-0001 or by telephone at (202) 366-5370.

SUPPLEMENTARY INFORMATION: On February 17, 2011, the Commercial Vehicle Safety Alliance requested that FMCSA extend the comment period for the Electronic On-Board Recorder and Hours of Service Supporting Documents Notice of Proposed Rulemaking, which published on February 1, 2011 (76 FR 5537), by 45 days. On March 1, 2011, the American Trucking Associations also requested a 45-day extension to the comment period.

FMCSA believes that other potential commenters to this rulemaking will benefit from an extension as well. Accordingly, FMCSA extends the comment period for all comments on the NPRM and its related documents to May 23, 2011.

Issued on: March 4, 2011.
Anne S. Ferro,
Administrator.

[FR Doc. 2011-5421 Filed 3-9-11; 8:45 am]

BILLING CODE 4910-EX-P